DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Employment Inquiry.

OMB Control Number: 0607-0139.

Form Number(s): BC-170A, BC-170B, BC-170D.

Type of Request: Revision of a currently approved collection.

Burden Hours: 16,250.

Number of Respondents: 65,000.

Average Hours per Response: 15 minutes.

Needs and Uses: The Census Bureau requests continued OMB approval for the BC-170A, BC-170B, and the BC-170D, Census Employment Inquiry. We are also requesting minor modifications to the data collected. The BC-170 is used to collect information such as personal data and work experience from job applicants. Selecting officials review the information shown on the form to evaluate an applicant's eligibility for employment and to determine the best qualified applicants to fill Census jobs.

The BC-170 is completed by job applicants before or at the time they are tested. Selecting officials will review the information shown on the form and determine the applicant's employment suitability. Failure to collect this information could result in the hiring of unsuitable and/or unqualified workers.

The BC-170 is used throughout the census and intercensal periods for the special census, pretests, and dress rehearsals for short-term time limited appointments. Applicants completing the form BC-170D for a census related position are applying for temporary jobs in office and field positions (clerks, enumerators, crew leaders, supervisors). In addition, as an option to the OF-612, Optional Application for Federal Employment, the BC-170A may be used when applying for temporary/permanent office and field positions (clerks, field representatives, supervisors) on a recurring survey in one of the Census Bureau's 12 Regional Offices (ROs) throughout the United States. The Form BC-170B is used for special censuses for temporary field positions (enumerators).

The use of this form is limited to only situations which require the establishment of a temporary office and/or involve special, one-time or recurring survey operations at one of the ROs. In preparation for the next decennial census, the BC-170 is intended to expedite hiring and selection in situations requiring large numbers of temporary employees for assignments of a limited duration. The form has been demonstrated to meet our recruitment needs for temporary workers and requires significantly less burden than the Office of Personnel Management (OPM) Optional Forms that are available for use by the public when applying for Federal positions.

The form has been slightly modified for specific usage by each of the three areas of usage. The variation of forms by operation is to collect specific data needed based on the nature of the operation. The area of difference relates to the collection of work history. A cover sheet is attached to each respective BC-170 to provide applicants with a brief description of their prospective job duties with the Census Bureau; the cover sheet message will vary for decennial, special censuses, or recurring survey positions.

Affected Public: Individuals.

Frequency: One time.

Respondent's Obligation: Required to obtain benefits.

Legal Authority: Title 13 U.S.C. 23a and c.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 28, 2011.
Glenna Mickelson,
Management Analyst, Office of the Chief Information Officer.

[FR Doc. 2011-16566 Filed 6-30-11; 8:45 am]

BILLING CODE 3510-07-P